INTERNATIONAL TRADE COMMISSION

[Investigation No. 337-TA-913]

Certain Hemostatic Products and Components Thereof; Commission Determination Not To Review an Initial Determination Granting a Motion To Terminate the Investigation on the Basis of Settlement; Termination of the Investigation

AGENCY: U.S. International Trade Commission.

ACTION: Notice.

SUMMARY: Notice is hereby given that the U.S. International Trade Commission has determined not to review an initial determination (“ID”) (Order No. 51) issued by the presiding administrative law judge (“ALJ”) on April 2, 2015, granting complainants' motion to terminate the above-identified investigation on the basis of settlement.

FOR FURTHER INFORMATION CONTACT: Cathy Chen, Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 7, 2014, based on a complaint filed on February 28, 2014, and supplemented on March 19, 2014, on behalf of Baxter International Inc. of Deerfield, Illinois; Baxter Healthcare Corporation of Deerfield, Illinois; and Baxter Healthcare SA of Switzerland (collectively, “Baxter”). 79 FR 19124 (Apr. 7, 2014). The complaint alleged violations of Section 337 of the Tariff Act of 1930, as amended, 19 U.S.C. 1337, in the sale for importation, and sale within the United States after importation of certain hemostatic products and components thereof by reason of infringement of certain claims of U.S. Patent Nos. 8,303,981; 8,512,729; 6,066,325; 8,357,378; and 8,603,511. The complaint further alleges that an industry in the United States exists as required by subsection (a)(2) of section 337. The Commission's notice of investigation named as respondents Johnson & Johnson (“J&J”) of Brunswick, New Jersey; Ethicon, Inc. (“Ethicon”) of Somerville, New Jersey; Ferrosan Medical Devices A/S (“Ferrosan”) of Denmark; and Packaging Coordinators, Inc. (“PCI”) of Philadelphia, Pennsylvania. 79 FR 19125. The Office of Unfair Import Investigations was named as a party to the investigation. Id. Subsequently, the investigation was terminated with respect to J&J and PCI. See Notice of Commission Determination Not to Review an Initial Determination Partially Terminating the Investigation Based on a Withdrawal of the Complaint (July 14, 2014).

On March 31, 2015, Baxter moved to terminate the investigation as to respondents Ethicon and Ferrosan based upon a settlement agreement between them. The parties asserted that there are no other agreements, written or oral, express or implied between them concerning the subject matter of this investigation. The Commission's Investigative Attorney filed a response in support of the motion.

On April 2, 2015, the ALJ issued an ID (Order No. 51), granting the motion to terminate the investigation as to respondents Ethicon and Ferrosan. The ALJ found that the settlement agreement appears to resolve the dispute between the parties, and that granting the motion would not adversely affect the public interest factors. No petitions for review were filed.

The Commission has determined not to review the subject ID.

The authority for the Commission's determination is contained in section 337 of the Tariff Act of 1930, as amended (19 U.S.C. 1337), and in section 210 of the Commission's Rules of Practice and Procedure (19 CFR part 210).

By order of the Commission.
Issued: April 27, 2015.
Lisa R. Barton,
Secretary to the Commission.

[FR Doc. 2015-10198 Filed 4-30-15; 8:45 am]

BILLING CODE 7020-02-P